DEPARTMENT OF HOMELAND SECURITY

Federal Emergency Management Agency

44 CFR Part 67

Final Flood Elevation Determinations

AGENCY: Federal Emergency Management Agency (FEMA), Emergency Preparedness and Response Directorate, Department of Homeland Security.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: Effective Date: The date of issuance of the Flood Insurance Rate Map (FIRM) showing BFEs and modified BFEs for each community. This date may be obtained by contacting the office where the FIRM is available for inspection as indicated in the table below.

ADDRESSES: The final BFEs for each community are available for inspection at the office of the Chief Executive Officer of each community. The respective addresses are listed in the table below.

FOR FURTHER INFORMATION CONTACT: Doug Bellomo, P.E. Hazard Identification Section, Emergency Preparedness and Response Directorate, Federal Emergency Management Agency, 500 C Street SW., Washington, DC 20472, (202) 646-2903.

SUPPLEMENTARY INFORMATION: FEMA makes the final determinations listed below of BFEs and modified BFEs for each community listed. The proposed BFEs and proposed modified BFEs were published in newspapers of local circulation and an opportunity for the community or individuals to appeal the proposed determinations to or through the community was provided for a period of ninety (90) days. The proposed BFEs and proposed modified BFEs were also published in the Federal Register.

This final rule is issued in accordance with Section 110 of the Flood Disaster Protection Act of 1973, 42 U.S.C. 4104, and 44 CFR Part 67.

FEMA has developed criteria for floodplain management in floodprone areas in accordance with 44 CFR Part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR Part 10, Environmental Consideration. No environmental impact assessment has been prepared.

Regulatory Flexibility Act. The Mitigation Division Director of the Emergency Preparedness and Response Directorate certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR part 67 is amended to read as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | *Elevation in feet (NGVD). +Elevation in feet (NAVD)
CALIFORNIA
Plumas County, (FEMA Docket No. B-7447)
Boyle Ravine:
Confluence with Nugget Creek | +3,409
Approximately 625 feet upstream of Alder Street | +3,545
Chandler Creek:
Confluence with Greenhorn Creek | +3,434
Approximately 320 feet upstream of Chandler Road | +3,464
Clear Stream:
Confluence with Spanish Creek | +3,404
Approximately 2,200 feet upstream of confluence of Gansner Creek | +3,427
Gansner Creek:
Confluence with Clear Stream | +3,423
Approximately 740 feet upstream of Bucks Lake Road | +3,497
Greenhorn Creek:
Confluence with Spanish Creek | +3,401
Approximately 1,950 feet upstream of Highway 89/70 | +3,494
Mill Creek:
Confluence with Spanish Creek | +3,401
Approximately 2,500 feet upstream of Highway 89/70 | +3,555
Nugget Creek:
Confluence with Mill Creek | +3,402
Approximately 200 feet upstream of Nugget Lane | +3,455
Spanish Creek:
At Oakland Camp Road | +3,392
Approximately 11,700 feet upstream of Highway 89/70 | +3,452
Taylor Creek:
Confluence with Greenhorn Creek | +3,446
Approximately 300 feet upstream of Chandler Road | +3,491
Thompson Creek:
Confluence with Greenhorn Creek | +3,454
Approximately 3,400 feet upstream of confluence with Thompson Creek Splitflow | +3,548
Thompson Creek Splitflow:
Confluence with Thompson Creek | +3,488
Approximately 2,600 feet upstream of confluence with Thompson Creek | +3,493
Unnamed Tributary to Boyle Ravine:
Confluence with Boyle Ravine | +3,410
Approximately 150 feet upstream of Highway 89/70 | +3,417
Wolf Creek:
Approximately 4,500 feet downstream of Greenville Park Road Bridge | +3,534
Approximately 2 miles upstream of Main Street Bridge | +3,640
Maps are available for inspection at the Plumas County Planning Department, 520 Main Street, Room 121, Quincy, California.
COLORADO
Erie (Town), Boulder and Weld Counties, (FEMA
Docket No. B-7435)
Coal Creek:
At confluence of Boulder Cottonwood No. 1 Ditch | +5,046
At Tri-County Airport | +5,083
Maps are available for inspection at the Town of Erie Town Hall, 645 Holbrook Street, Erie, CO.
OREGON
Beaverton (City), Washington County, (FEMA Docket No. B-7447)
Fanno Creek:
Just upstream of Southwest Scholls Ferry Road | *165
Approximately 850 feet upstream of Southwest Scholls Ferry Road | *198
Maps are available for inspection at the Community Development Department, City Hall, 4755 Southwest Griffith Drive, Beaverton, Oregon.
———
Durham (City), Washington County, (FEMA Docket No. B-7447)
Fanno Creek:
At confluence with the Tualatin River | *125
At Burlington Northern Railroad | *126
Tualatin River:
At Interstate Highway 5 | *123
At Burlington Northern Railroad (just upstream of confluence with Fanno Creek) | *125
Maps are available for inspection at City Hall, 17160 Southwest Upper Boones Ferry Road, Durham, Oregon.
———
Tigard (City), Washington County, (FEMA Docket No. B-7447)
Ash Creek:
At confluence with Fanno Creek | *160
Just upstream of Oak Street | *170
Fanno Creek:
At Burlington Northern Railroad | *126
At Southwest Scholls Ferry Road | *164
Summer Creek:
At confluence with Fanno Creek | *158
Just upstream of 135th Avenue | *176
Tualatin River:
At confluence with Fanno Creek | *125
Approximately 1.6 miles upstream of confluence with Fanno Creek | *127
Maps are available for inspection at the Engineering Department, City Hall, 13125 Southwest Hall Boulevard, Tigard, Oregon.
———
Washington County, (FEMA Docket No. B-7447)
Ash Creek:
Just upstream of Southwest Hall Boulevard | *171
Just upstream of Hemlock Street | *181
Fanno Creek:
Just upstream of Scholls Ferry Road | *197
Approximately 200 feet upstream of Beaverton-Hillsdale Highway | *243
Maps are available for inspection at the Department of Land Use and Transportation, 155 North First Avenue, Suite 350, MS 12, Hillsboro, Oregon.

Source of flooding and location | *Elevation in feet (NGVD) +Elevation in feet (NAVD) | Communities affected
COLORADO
Routt County (FEMA Docket No. B-7435)
Burgess Creek:
At confluence with Walton Creek Just upstream of Burgess Creek Road | *6,759 +7,355 | Routt County (Uninc. Areas) and City of Steamboat Springs.
Elk River (Lower Reach):
At confluence with Yampa River Approximately 1.5 miles upstream of County Road 44 | +6,533 +6,712 | Routt County (Uninc. Areas).
Walton Creek:
At confluence with Yampa River Approximately 850 feet upstream of County Road 44 | +6,759 +6,827 | Routt County (Uninc. Areas) and City of Steamboat Springs.
Walton Creek Side Channel:
Approximately 500 feet downstream of County Road 24 At divergence from Walton Creek main Channel | +6,810 +6,825 | Routt County (Uninc. Areas).
Yampa River Bypass (near Steamboat Springs):
At confluence with Yampa River Approximately 700 feet downstream of divergence from Yampa River | +6,816 +6,853 | Routt County (Uninc. Areas).
Yampa River near Hayden:
Approximately 2,600 feet downstream of U.S. Highway 40 Approximately 1.3 miles upstream of U.S. Highway 40 | +6,314 +6,424 | Routt County (Uninc. Areas) and Town of Hayden.
Yampa River Side Channel 1:
At convergence with Yampa River main channel At divergence from Yampa River main channel | +6,626 +6,635 | Routt County (Uninc. Areas) and City of Steamboat Springs.
Yampa River Side Channel 2:
At convergence with Yampa River main channel At divergence from Yampa River main channel | +6,716 +6,724 | City of Steamboat Springs.
Yampa River Split Flow at Highway 131 (near Steamboat Springs):
At convergence with Yampa River At divergence from Yampa River | +6,830 +6,843 | Routt County (Uninc. Areas).
Yampa River near Steamboat Springs:
Approximately 1.5 miles downstream of County Road 179 Approximately 1.5 miles upstream of State Highway 131 | +6,483 +6,865 | Routt County (Uninc. Areas) and City of Steamboat Springs.
ADDRESSES:
Unincorporated Areas Routt County:
Maps are available for inspection at the Routt County Courthouse, 136 6th Street, Steamboat Springs, Colorado.
City of Steamboat Spring:
Maps are available for inspection at City Hall, 124 Tenth Street, Steamboat Springs, Colorado.
Town of Hayden:
Maps are available for inspection at the Town Hall, 178 West Jefferson, Hayden, Colorado.

(Catalog of Federal Domestic Assistance No. 83.100, “Flood Insurance”)
Dated: October 6, 2004.
David I. Maurstad,
Acting Director, Mitigation Division, Emergency Preparedness and Response Directorate.

[FR Doc. 04-23305 Filed 10-18-04; 8:45 am]

BILLING CODE 9110-12-P